DEPARTMENT OF TRANSPORTATION

National Highway Traffic Safety Administration

[DOT Docket No. NHTSA-2011-0045]

Request for Public Comment on Proposed Collections of Information

AGENCY: National Highway Traffic Safety Administration (NHTSA), Department of Transportation (DOT).

ACTION: Notice.

SUMMARY: In compliance with the Paperwork Reduction Act of 1995 (PRA) (44 U.S.C. 3501 et seq.), on March 30, 2011 (76 FR 17746) the agency published a 60-day notice in the Federal Register soliciting public comment on the proposed information collection abstracted below. On January 17, 2012 (77 FR 2344), the agency published a second notice in the Federal Register. In further compliance with the PRA, the agency now publishes this 30-day notice announcing the submission of its proposed collection to OMB for review and notifying the public about how to submit comments on the collection to OMB during the 30-day comment period.

DATES: Comments must be submitted on or before July 23, 2012.

ADDRESSES: You may submit comments [identified by Docket No. DOT-NHTSA-2011-0045] through one of the following methods:

• Internet Submission: http://www.regulations.gov. Follow the online instructions for submitting comments.

• Mail or Hand Delivery: Docket Management Facility, U.S. Department of Transportation, 1200 New Jersey Avenue SE., West Building, Room W12-140, Washington, DC 20590, between 10 a.m. and 5 p.m., Monday through Friday, except on Federal holidays.

FOR FURTHER INFORMATION CONTACT: Ann Burton, NHTSA, 1200 New Jersey Avenue SE., W46-492, NTI-200, Washington, DC 20590. Ms. Burton's telephone number is (202) 366-2685. Please identify the relevant collection of information by referring to its OMB Control Number.

SUPPLEMENTARY INFORMATION: In compliance with these requirements, NHTSA asks for public comments on the following proposed collections of information.

(1) Title: 23 CFR 1200.10(d), Uniform Safety Program Cost Summary Form for Highway Safety Plan.

OMB Control Number: 2127-0003.

Type of Request: Extension of currently approved collection.

Affected Public: For Section 402, the public is the 50 States, the District of Columbia, Puerto Rico, the Virgin Islands, Guam, American Samoa, the Commonwealth of the Northern Mariana Islands, and the Bureau of Indian Affairs.

Abstract: Under Section 402, each State is required have a highway safety program approved by the Secretary, designed to reduce traffic accidents and deaths, injuries, and associated property damage in order to qualify for certain formula grant funds. Under this program, States are required to submit a Highway Safety Plan and other documentation explaining how they intend to use the grant funds. In order to account for funds expended under these priority areas and other program areas, States are required to submit a Program Cost Summary. The Program Cost Summary is completed to reflect the State's proposed Allocation of funds by program area, based on the projects and activities identified in the Highway Safety Plan. It is important for the agency to receive this information so that it can administer the program and account for expenditures of funds.

Estimated Annual Burden: 570.

Estimated Number of Respondents: 57.

(2) Title: 23 CFR, 1345, Occupant Protection Incentive Grant-Section 405.

OMB Control Number: 2127-0600.

Type of Request: Extension of currently approved collection.

Affected Public: For Section 405, the public is the 50 States, the District of Columbia, Puerto Rico, the Virgin Islands, Guam, American Samoa, and the Commonwealth of the Northern Mariana Islands.

Abstract: An occupant protection incentive grant is available to States that can demonstrate compliance with at least four of six criteria. Demonstration of compliance requires submission of copies of relevant seat belt and child passenger protection statutes plan and/or reports on statewide seat belt enforcement and child seat education programs and possibly some traffic court records. In addition, States eligible to receive grant funds must submit a Program Cost Summary (Form HS-217), allocating section 405 funds to occupant protection programs.

Estimated Annual Burden: 1,736.

Estimated Number of Respondents: 56.

Comments are invited on: Whether the proposed collections of information are necessary for the proper performance of the functions of the Department, including whether the collections will have practical utility; the accuracy of the Department's estimate of the burden of the proposed collections; ways to enhance the quality, utility and clarity of the collections; and ways to minimize the burden of the collections on respondents, including the use of automated collection techniques or other forms of information technology.

Mary D. Gunnels,
Associate Administrator, Regional Operations and Program Delivery.

[FR Doc. 2012-15242 Filed 6-21-12; 8:45 am]

BILLING CODE 4910-59-P